ENVIRONMENTAL PROTECTION AGENCY

[FRL_9985-54-OLEM]

The Hazardous Waste Electronic Manifest System Advisory Board: Request for Nominations

AGENCY: Environmental Protection Agency (EPA).

ACTION: Request for nominations.

SUMMARY: The U.S. Environmental Protection Agency (EPA) invites nominations of qualified candidates for possible consideration for a three-year appointment on the Hazardous Waste Electronic Manifest System Advisory Board (the “Board”).

Pursuant to the Hazardous Waste Electronic Manifest Establishment Act (the “e-Manifest Act” or the “Act”), EPA has established the Board to provide practical and independent advice, consultation, and recommendations to the EPA Administrator on the activities, functions, policies and regulations associated with the Hazardous Waste Electronic Manifest (e-Manifest) System. In accordance, with the e-Manifest Act, the EPA Administrator or designee will serve as Chair of the Board. This notice solicits nominations for possible consideration for candidates to potentially serve in the following positions on the Board: An expert in information technology (IT); An industry representative member with experience in using or representing users of the manifest system; and a state representative member responsible for processing manifests.

DATES: Nominations should be received on or before November 16, 2018.

ADDRESSES: Nominations should be submitted via email to Fred Jenkins, the Designated Federal Officer (DFO) of the e-Manifest Advisory at jenkins.fred@epa.gov, and identified with “BOARD NOMINATION” in the subject line of the email.

FOR FURTHER INFORMATION CONTACT: Fred Jenkins, Designated Federal Officer (DFO), U.S. Environmental Protection Agency, Office of Resource Conservation and Recovery, (MC: 5303P), 1200 Pennsylvania Avenue NW, Washington, DC 20460, Phone: 703-308-7049; or by email: jenkins.fred@epa.gov.

SUPPLEMENTARY INFORMATION: On June 30, 2018, EPA established a national system for tracking hazardous waste shipments electronically. This system, known as “e-Manifest,” is modernizing the nation's cradle-to-grave hazardous waste tracking process while saving valuable time, resources, and dollars for industry and states.

EPA established the e-Manifest system according to the Hazardous Waste Electronic Manifest Establishment Act, enacted into law on October 5, 2012. The “e-Manifest Act” authorizes the EPA to implement a national electronic manifest system and requires that the costs of developing and operating the new e-Manifest system be recovered from user fees charged to those who use hazardous waste manifests to track off-site shipments of their wastes.

This system enables users of the uniform hazardous waste manifest forms (EPA Form 8700-22 and Continuation Sheet 8700-22A) to have the option to more efficiently track their hazardous waste shipments electronically, in lieu of the paper manifest, from the point of generation, during transportation, and to the point of receipt by an off-site facility that is permitted to treat, store, or dispose of the hazardous waste. Electronic manifests obtained from the national system will augment or replace the paper forms that are currently used for this purpose, and that result in substantial paperwork costs and other inefficiencies. Congress intended that EPA develop a system that, among other things, meets the needs of the user community and decreases the administrative burden associated with the traditional paper-based manifest system on the user community. The EPA estimates e-Manifest will ultimately reduce the burden associated with preparing shipping manifests between 300,000 and 700,000 hours, saving state and industry users, on average, an annualized $65 million per year over the first six years of system operation, and more than $90 million once electronic manifests have been widely adopted. The system also serves as a national reporting hub and database for all manifests and shipment data. To ensure that these goals are met, the Act directs EPA to establish a Board to assess the effectiveness of the electronic manifest system and make recommendations to the Administrator for improving the system.

In addition, the e-Manifest Act directs EPA to develop a system that attracts sufficient user participation and service revenues to ensure the viability of the system. As a result, the Act provides EPA broad discretion to establish reasonable user fees, as the Administrator determines are necessary, to pay costs incurred in developing, operating, maintaining, and upgrading the system, including any costs incurred in collecting and processing data from any paper manifest submitted to the system. In January 2018, EPA published its final methodology for setting user fees based on the costs of processing manifests and, in June 2018, the Agency released its user fees effective for the period between June 30, 2018, and September 30, 2019.

e-Manifest aligns with the Agency's E-Enterprise business strategy. E-Enterprise for the Environment is a transformative 21st century strategy—jointly governed by states and EPA—for modernizing government agencies' delivery of environmental protection. Under this strategy, the Agency will streamline its business processes and systems to reduce reporting burden on states and regulated facilities, and improve the effectiveness and efficiency of regulatory programs for EPA, states, and tribes.

EPA has established the Board in accordance with the provisions of the e-Manifest Act and the Federal Advisory Committee Act (FACA), 5 U.S.C. App.2. The Board is in the public interest and supports EPA in performing its duties and responsibilities. Pursuant to the e-Manifest Act the Board is comprised of nine members, of which one member is the Administrator (or a designee), who serves as Chairperson of the Board, and eight members are individuals appointed by the EPA Administrator:

• At least two of whom have expertise in information technology (IT);

• At least three of whom have experience in using, or represent users of, the manifest system to track the transportation of hazardous waste under federal and state manifest programs; and;

• At least three state representatives responsible for processing those manifests.

The Board will meet publicly at least annually to provide recommendations on matters related to the operational activities, functions, policies, and/or regulations of the EPA under the e-Manifest Act.

Member Nominations: Pursuant to the e-Manifest Act, the Board assists the Agency in evaluating the effectiveness of the e-Manifest IT system and associated user fees; identifying key issues associated with the system, including the need (and timing) for user fee adjustments; recommending system enhancements; and providing independent advice on matters and policies related to the e-Manifest program. The e-Manifest Board provides recommendations on matters related to the operational activities, functions, policies, and regulations of the EPA under the e-Manifest Act, including proposing actions to encourage the use of the electronic (paperless) system, and actions related to the E-Enterprise strategy that intersect with e-Manifest. These intersections may include issues such as business-to-business communications, performance standards for mobile devices, and Cross Media Electronic Reporting Rule (CROMERR) compliant e-signatures. Any interested person and/or organization may nominate qualified individuals for membership. EPA values and welcomes diversity. To obtain nominations of diverse candidates, the Agency encourages nominations of women and men of all racial and ethnic groups. All nominations will be considered; however, applicants need to be aware of the representation from specific sectors required by the e-Manifest Act. Further, state and industry nominees should have a comprehensive knowledge of hazardous waste generation, transportation, treatment, storage, and disposal under RCRA Subtitle C at the federal, state, and local levels.

Nominees who represent states should have comprehensive knowledge of state programs that used manifest data prior to the initiation of the federal electronic manifest, such as in-state programs and/or in-state tracking systems/databases. Nominees who represent industry should have strong knowledge of existing industry systems/devices/approaches and business operations to provide valuable input on e-Manifest integration into current industry data systems. IT nominees should have core competencies and experience in large-scale systems and application development and integration, deployment and maintenance, user help desk and support, and expertise relevant to support the complexity of an electronic manifest system. Examples of this expertise may include but are not limited to: Expertise with web-based and mobile technologies, particularly that support large-scale operations for geographically diverse users; expertise in IT security, including perspective on federal IT security requirements; expertise in electronic signature and user management approaches; expertise with scalable hosting solutions such as cloud-based hosting; and expertise in user experience. Existing knowledge of, or willingness to gain an understanding of, EPA shared services and enterprise architecture is a plus. Another plus for any nominee is experience in setting and/or managing fee-based systems in general.

Additional criteria used to evaluate nominees will include:

• Excellent interpersonal, oral and written communication skills;

• Demonstrated experience developing group recommendations;

• Willingness to commit time to the Board and demonstrated ability to work constructively on committees;

• Absence of financial conflicts of interest;

• Impartiality (including the appearance of a lack of impartiality); and

• Background and experiences that would help contribute to the diversity of perspectives on the Board, e.g., geographic, economic, social, cultural, educational backgrounds, professional affiliations and other considerations.

Nominations must include a resume, which provides the nominee's background, experience and educational qualifications, as well as a brief statement (one page or less) describing the nominee's interest in serving on the Board and addressing the other criteria previously described. Nominees are encouraged to provide any additional information that they believe would be useful for consideration, such as: availability to participate as a member of the Board; how the nominee's background, skills and experience would contribute to the diversity of the Board; and any concerns the nominee has regarding membership. Nominees should provide their name, occupation, position, current business address, email, and telephone number in the application.

Moreover, in accordance with the EPA Administrator's Directive issued on October 31, 2017, please describe any involvement you have with the Agency through EPA grant funded projects which you (nominee/applicant) are currently serving as the principal investigator (PI) or co-investigator (COI). The Agency recognizes that different variables may factor into this criterion and as a result will evaluate each situation on a case by case basis.

In addition to a statement regarding grant funded projects, the nominee/applicant should include previous employment and/or current contracting sources with the Agency. To help the Agency in evaluating the effectiveness of its outreach efforts, also tell us how you learned of this opportunity in your statement of interest (cover letter).

Interested candidates may self-nominate. The Agency will acknowledge receipt of nominations. Persons selected for membership will receive compensation for travel and a nominal daily compensation (if appropriate) while attending meetings. Additionally, candidates selected to serve as Information Technology (IT) “Expert” Members will be designated as Special Government Employees (SGEs) or consultants. Candidates designated as SGEs will be required to fill out the “Confidential Financial Disclosure Form for Environmental Protection Agency Special Government Employees” (EPA Form 3310-48). This confidential form provides information to EPA ethics officials to determine whether there is a conflict between the SGE's public duties and their private interests, including an appearance of a loss of impartiality as defined by federal laws and regulations. One example of a potential conflict of interest may be for IT professional(s) serving in an organization that is awarded any related e-Manifest system development contract(s).

Dated: October 4, 2018.
Barnes Johnson,
Director, Office of Resource Conservation and Recovery, Office of Land and Emergency Management.

[FR Doc. 2018-22651 Filed 10-16-18; 8:45 am]

BILLING CODE 6560-50-P